COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Effective Date: 7/14/2014.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 3/28/2014 (79 FR 17509-17510) and 4/11/2014 (79 FR 20190-20191), the Committee for Purchase From People Who Are Blind or Severely Disabled published notices of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN: 4510-00-NIB-0049—Bag, Disposable, Polyethylene, Feminine Hygiene, Pink

NSN: 4510-00-NIB-0050—Dispenser, Stainless Steel, Feminine Hygiene Disposal Bags

NPA: Envision, Inc., Wichita, KS

Contracting Activity: Defense Logistics Agency Troop Support, Philadelphia, PA

Coverage: C-List for 100% of the requirement of the Department of Defense, as aggregated by the Defense Logistics Agency Troop Support, Philadelphia, PA.

NSN: 7510-00-272-9662—Staples, Standard, Full Strip

NPA: Winston-Salem Industries for the Blind, Inc., Winston-Salem, NC

Contracting Activity: General Services Administration, New York, NY

Coverage: A-List for the Total Government Requirement as aggregated by the General Services Administration, New York, NY.

Jacket, Tanker, USMC, Pewter Gray

NSN: 8415-00-NIB-1053—Size 38R

NSN: 8415-00-NIB-1054—Size 38L

NSN: 8415-00-NIB-1055—Size 38XL

NSN: 8415-00-NIB-1056—Size 40S

NSN: 8415-00-NIB-1057—Size 40R

NSN: 8415-00-NIB-1058—Size 40L

NSN: 8415-00-NIB-1059—Size 40XL

NSN: 8415-00-NIB-1092—Size 42S

NSN: 8415-00-NIB-1093—Size 42R

NSN: 8415-00-NIB-1094—Size 42L

NSN: 8415-00-NIB-1095—Size 42XL

NSN: 8415-00-NIB-1096—Size 44S

NSN: 8415-00-NIB-1097—Size 44R

NSN: 8415-00-NIB-1098—Size 44L

NSN: 8415-00-NIB-1099—Size 44XL

NSN: 8415-00-NIB-1100—Size 46S

NSN: 8415-00-NIB-1101—Size 46R

NSN: 8415-00-NIB-1102—Size 46L

NSN: 8415-00-NIB-1103—Size 46XL

NSN: 8415-00-NIB-1104—Size 48R

NSN: 8415-00-NIB-1105—Size 48L

NSN: 8415-00-NIB-1106—Size 48XL

NSN: 8415-00-NIB-1108—Size 50L

NSN: 8415-00-NIB-1109—Size 50XL

NSN: 8415-00-NIB-1110—Size 52R

NSN: 8415-00-NIB-1111—Size 52L

NSN: 8415-00-NIB-1112—Size 54R

NSN: 8415-00-NIB-1113—Size 54L

NSN: 8415-00-NIB-1107—Size 50R

NPA: Lions Services, Inc., Charlotte, NC

Contracting Activity: Marine Corps Systems Command, Quantico, VA

Coverage: C-List for 100% of the U.S. Marine Corps Junior ROTC Program requirement, as aggregated by the Marine Corps Systems Command (MARCORSYSCOM), Quantico, VA.

Barry S. Lineback,
Director, Business Operations.

[FR Doc. 2014-13850 Filed 6-12-14; 8:45 am]

BILLING CODE 6353-01-P